DEPARTMENT OF COMMERCE

International Trade Administration

[A-405-803]

Purified Carboxymethylcellulose from Finland, Notice of Final Results of Antidumping Duty Administrative Review

AGENCY: Import Administration, International Trade Administration, Department of Commerce.

ACTION: Notice of Final Results of Antidumping Duty Administrative Review.

SUMMARY: On August 7, 2007, the Department of Commerce (the Department) published the preliminary results of administrative review of the antidumping duty order covering purified carboxymethylcellulose from Finland. See Purified Carboxymethylcellulose from Finland; Notice of Preliminary Determination of Antidumping Duty Administrative Review, 72 FR 44106 (August 7, 2007) (Preliminary Results). The merchandise covered by this order is purified carboxymethylcellulose as described in the “Scope of the Order” section of this notice. The period of review (POR) is December 27, 2004, through June 30, 2006. In the Preliminary Results, we invited parties to provide comments. Based on our analysis of the comments received, we have made changes to the margin calculation. Therefore, the final results differ from the Preliminary Results. The final weighted-average dumping margin for the reviewed firm is listed below in the section entitled “Final Results of the Review.”

EFFECTIVE DATE: December 12, 2007.

FOR FURTHER INFORMATION CONTACT: Tyler Weinhold, or Robert James, AD/CVD Operations, Office 7, Import Administration, International Trade Administration, U.S. Department of Commerce, 14th Street and Constitution Avenue, NW, Washington, DC 20230; telephone: (202) 482-1121, and (202) 482-0649, respectively.

SUPPLEMENTARY INFORMATION:

Background

On August 7, 2007, the Department published the Preliminary Results of administrative review of the antidumping order covering purified carboxymethylcellulose from Finland. See Preliminary Results. The parties subject to this review are Noviant Oy, CP Kelco Oy, Noviant Inc., and CP Kelco U.S., Inc. (collectively, CP Kelco). The petitioner in this proceeding is The Aqualon Company, a division of Hercules Incorporated.

On August 1, 2007, we sent a supplemental questionnaire to CP Kelco, requesting certain information about factoring expenses. CP Kelco responded to this questionnaire on August 15, 2007. See Letter from CP Kelco, dated August 15, 2007 (CP Kelco's August 15, 2007, Questionnaire Response). On August 22, 2007, the Department released a verification report describing the May 14 to May 18, 2007, verification of CP Kelco Oy's and Noviant Oy's Export Price (EP) and Home Market (HM) sales of subject merchandise. See Memorandum to the File Regarding “Verification of Sections A-C Questionnaire Responses submitted by CP Kelco Oy, Noviant Oy, CP Kelco U.S., Inc., and Noviant Inc., in the Antidumping Review of Purified Carboxymethylcellulose (CMC) from Finland,” dated August 22, 2007.

In the Preliminary Results we invited parties to provide comments. In response, the Department received a case brief on September 10, 2007, from CP Kelco. On September 10, 2007, the Department also received a letter from Petitioner alleging programming errors in the calculation of the Preliminary Results dumping margin. Also, on September 17, 2007, Petitioner submitted a rebuttal brief. At CP Kelco's request, the Department held a public hearing on September 26, 2007.

Scope of the Order

The merchandise covered by this order is all purified carboxymethylcellulose (CMC), sometimes also referred to as purified sodium CMC, polyanionic cellulose, or cellulose gum, which is a white to off-white, non-toxic, odorless, biodegradable powder, comprising sodium CMC that has been refined and purified to a minimum assay of 90 percent. CMC does not include unpurified or crude CMC, CMC Fluidized Polymer Suspensions, and CMC that is cross-linked through heat treatment. CMC is CMC that has undergone one or more purification operations which, at a minimum, reduce the remaining salt and other by-product portion of the product to less than ten percent. The merchandise subject to this order is classified in the Harmonized Tariff Schedule of the United States at subheading 3912.31.00. This tariff classification is provided for convenience and customs purposes; however, the written description of the scope of the order is dispositive.

Analysis of Comments Received

All issues raised in CP Kelco's case brief and in Petitioner's rebuttal brief are addressed in the Memorandum to David M. Spooner, Assistant Secretary for Import Administration, dated December 5, 2007 (Issues and Decision Memorandum), which is hereby adopted by this notice. A list of the issues which parties have raised and to which we have responded, all of which are in the Decision Memorandum, is attached to this notice as an appendix. The Issues and Decision Memorandum is on file in room B-099 of the main Department of Commerce building. In addition, a complete version of the Issues and Decision Memorandum can be accessed directly on the Internet at http://www.ia.ita.doc.gov/frn/index.html. The paper copy and electronic version of the Decision Memorandum are identical in content.

In addition, Petitioner submitted a letter in which it alleged certain programming errors. See Letter from Edward M. Lebow regarding “Purified Carboxymethylcellulose from Finland; Demonstration of Programming Errors in Lieu of Case Brief,” dated September 10, 2007 (Petitioner's Allegation of Programming Errors) .

Successor-In-Interest Determination

In the Preliminary Results, we preliminarily determined that CP Kelco Oy is the successor-in-interest to the former Noviant Oy for purposes of this proceeding and application of the antidumping law. We did not receive comments on this issue and have no reason to change our findings from the Preliminary Results. For a complete discussion of our successorship analysis, see Preliminary Results at 44107 to 44108. As a result of our review, we determine that CP Kelco Oy is the successor-in-interest to Noviant Oy.

Changes Since the Preliminary Results

In the Preliminary Results, we made a direct adjustment to normal value and U.S. price for certain factoring expenses CP Kelco incurred in both the home market and in the United States. However, as we had not asked CP Kelco to report these expenses, we relied upon a sample of these expenses gathered at the CEP and HM/EP sales verifications as facts otherwise available. See the Preliminary Results. Therefore, in a questionnaire dated August 1, 2007, we asked CP Kelco to submit new U.S. and HM sales databases containing this information for all of its sales. CP Kelco responded to this questionnaire on August 15, 2007. See CP Kelco's August 15, 2007, questionnaire response. As a result we relied upon the U.S. and HM sales databases submitted August 15, 2007, in the final results. These databases include additional fields for per-unit factoring expenses and factoring rates, but are otherwise identical to those databases relied upon in the Preliminary Results. Accordingly, the programming language used to calculate factoring expenses as facts available has been removed from the margin calculation program for these final results, and other programming language has been added to deduct the reported factoring expenses from U.S. price and normal value. See Memorandum to the File from Tyler Weinhold Regarding “Analysis of Data Submitted by Noviant Oy and CP Kelco Oy (Collectively, CP Kelco) in the Final Results of the 2004-2006 Administrative Review of the Antidumping Duty Order on Purified Carboxymethylcellulose (CMC) from Finland,” dated December 5, 2007 (Final Analysis Memorandum).

CP Kelco was not able to report the importer of record for some of its U.S. sales during the POR. Therefore, in order to allow for importer-specific assessment, we set the importer field for such sales equal to the consolidated customer codes reported by CP Kelco. This change is explained in detail in the Final Analysis Memorandum.

In addition, we made certain changes to our calculation of comparison market net price and certain other changes related to foreign currency conversions as a result of our analysis of the issues raised in Petitioner's Allegation of Programming Errors. The issues raised and the changes made to the margin calculation program since the Preliminary Results as a result of our analysis of these issues are explained in the Final Analysis Memorandum.

Final Results of the Review

We determine the following percentage weighted-average margin exists for the period December 27, 2004, through June 30, 2006:

Manufacturer/Exporter | Weighted Average Margin (percentage)
CP Kelco Oy | 5.97
Noviant Oy | 5.97

Assessment

The Department shall determine, and U.S. Customs and Border Protection (CBP) shall assess, antidumping duties on all appropriate entries. In accordance with 19 CFR 351.212(b)(1), the Department calculates an assessment rate for each importer of the subject merchandise. CP Kelco has reported entered values for all of its sales of subject merchandise to the United States during the POR. Therefore, in accordance with 19 CFR 351.212(b)(1), we have calculated importer-specific duty assessment rates on the basis of the ratio of the total amount of antidumping duties calculated for the examined sales to the total entered value of the examined sales of that importer. These rates will be assessed uniformly on all entries the respective importers made during the POR. Where the assessment rate is above de minimis, we will instruct CBP to assess duties on all entries of subject merchandise by that importer. The Department will issue appropriate liquidation instructions directly to CBP within fifteen days of publication of the final results of review.

The Department clarified its “automatic assessment” regulation on May 6, 2003 (68 FR 23954). This clarification will apply to entries of subject merchandise during the period of review produced by reviewed companies for which these companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective upon publication of this notice of final results of administrative review for all shipments of purified carboxymethylcellulose from Finland entered, or withdrawn from warehouse, for consumption on or after the date of publication, as provided by section 751(a)(1) of the Tariff Act of 1930, as amended (the Tariff Act):

1) The cash deposit rate for CP Kelco Oy and Noviant Oy will be the rate established in the final results of review; 2) if the exporter is not a firm covered in this review or the less-than-fair-value (LTFV) investigation, but the manufacturer is, the cash deposit rate will be the rate established for the most recent period for the manufacturer of the merchandise; and 3) if neither the exporter nor the manufacturer is a firm covered in this or any previous review conducted by the Department, the cash deposit rate will be the all-others rate of 6.65 percent from the LTFV investigation. See Notice of Antidumping Duty Orders: Purified Carboxymethylcellulose from Finland, Mexico, the Netherlands and Sweden, 70 FR 39734 (July 11, 2005). These deposit requirements, when imposed, shall remain in effect until further notice.

These deposit requirements shall remain in effect until publication of the final results of the next administrative review.

Notification to Interested Parties

This notice also serves as a final reminder to importers of their responsibility under 19 CFR 351.402(f) to file a certificate regarding the reimbursement of antidumping or countervailing duties prior to liquidation of the relevant entries during this review period. Failure to comply with this requirement could result in the Secretary's presumption that reimbursement of antidumping or countervailing duties occurred and the subsequent assessment of doubled antidumping duties.

This notice also serves as a reminder to parties subject to administrative protective orders (APO) of their responsibility concerning the return or destruction of proprietary information disclosed under APO in accordance with 19 CFR 351.305. Timely written notification of the return or destruction of APO materials or conversion to judicial protective order is hereby requested. Failure to comply with the regulations and terms of an APO is a violation which is subject to sanction.

We are issuing and publishing this notice in accordance with sections 751(a)(1) and 777(i) of the Tariff Act.

Dated: December 3, 2007.
Stephen J. Claeys,
Acting Assistant Secretary for Import Administration.

APPENDIX

Comments and Responses:

Issue 1:Amortization of Goodwill

Issue 2: Zeroing of Non-Dumping Margins

[FR Doc. E7-24072 Filed 12-11-07; 8:45 am]

BILLING CODE 3510-DS-S